DEPARTMENT OF HEALTH AND HUMAN SERVICES

Centers for Disease Control and Prevention

Notice of Intent To Award Supplemental Affordable Care Act Funding

Notice of Intent to award supplemental Affordable Care Act funding to support enhancement of an existing laboratory fellowship training program through funding opportunity CDC-RFA-HM10-1001, “APHL—CDC Partnership for Quality Laboratory Practice” cooperative agreement.

AGENCY: Centers for Disease Control and Prevention (CDC), Department of Health and Human Services (HHS).

ACTION: Notice.

SUMMARY: This notice provides public announcement of CDC's intent to use Affordable Care Act (ACA) appropriations to expand the Emerging Infectious Diseases (EID) Laboratory Fellowship Program currently supported through Funding Opportunity CDC-RFA-HM10-1001, “APHL-CDC Partnership for Quality Laboratory Practice.” Funding is appropriated under the Affordable Care Act (Pub. L. 111-148), Title IV, Section 4002 (Prevention and Public Health Fund). In addition, Under Section 5314, Fellowship Training in Public Health (Part E of title VII of the Public Health Service Act (42 U.S.C. 294n et seq., as amended by section 5206, is further amended by Sec. 778), CDC is authorized to expand existing fellowship training programs in the critical areas of applied public health epidemiology, public health laboratory science and public health informatics. The CFDA Number for this funding opportunity is 93.065.

CDC will add the following ACA Authority to that which is reflected in the published Funding Opportunity CDC-RFA-HM10-1001:

Authority: Funding is appropriated under the Affordable Care Act (Pub. L. 111-148), Title IV, Section 4002 (Prevention and Public Health Fund). In addition, Under Section 5314, Fellowship Training in Public Health (Part E of title VII of the Public Health Service Act (42 U.S.C. 294n et seq., as amended by section 5206, is further amended by Sec. 778), CDC is authorized to expand existing fellowship training programs in the critical areas of applied public health epidemiology, public health laboratory science and public health informatics.

Reporting Requirements

Recipients of the ACA funds through this funding opportunity are required to comply with the reporting requirements, terms and conditions set forth in the published version of Funding Opportunity CDC-RFA-HM10-1001.

Award Information:

Type of Award: Cooperative Agreement.

Approximate Current Fiscal Year Funding: $1,000,000 in Affordable Care Act (ACA) Funding.

Anticipated Number of Awards: 1.

Anticipated Award Date: July 1, 2011.

Fiscal Year Funds: 2011.

DATES: The effective date for this action is April 12, 2011 and remains in effect until the expiration of the project period of the PPHF ACA funded application.

FOR FURTHER INFORMATION CONTACT: Elmira Benson, Acting Deputy Director, Centers for Disease Control and Prevention, 2920 Brandywine Road, Atlanta, GA 30341, telephone (770) 488-2802, e-mail Elmira.Benson@cdc.gov.

SUPPLEMENTARY INFORMATION: On March 23, 2010, the President signed into law the Affordable Care Act (ACA), Public Law 111-148. ACA is designed to improve and expand the scope of health care coverage for Americans. Cost savings through disease prevention is an important element of this legislation and ACA has established a Prevention and Public Health Fund (PPHF) for this purpose. Specifically, the legislation states in Section 4002 that the PPHF is to “provide for expanded and sustained national investment in prevention and public health programs to improve health and help restrain the rate of growth in private and public sector health care costs.” In addition, under Section 5314, Fellowship training in public health (Part E of title VII of the Public Health Service Act (42 U.S.C. 294n et seq., as amended by section 5206, is further amended by Sec. 778), CDC is authorized to expand existing fellowship training programs in the critical areas of applied public health epidemiology, public health laboratory science and public health informatics. Supplemental ACA funding, as referenced in this notice, will enhance the work of national, state and local public health laboratories in the U.S. through expansion of the Emerging Infectious Diseases (EID) Laboratory Fellowship Program. The EID Fellowship, sponsored by the Association of Public Health Laboratories (APHL) and CDC and funded through a cooperative agreement with APHL, trains and prepares scientists for careers in public health laboratories and supports public health initiatives related to infectious disease research. The program aims to promote quality public health laboratory practice, improve public health laboratory infrastructure, strengthen the public health laboratory system, and develop a well-trained public health laboratory workforce. Activities that promote the development of a well-trained public health laboratory workforce are outlined in section 10 of the cooperative agreement. Therefore, the programmatic activities CDC proposes to support with these ACA funds are consistent with the intent of the Affordable Care Act and Prevention and Public Health Fund (PPHF), Section 4002.

Dated: March 25, 2011.
Tanja Popovic,
Deputy Associate Director for Science, Centers for Disease Control and Prevention.

[FR Doc. 2011-8651 Filed 4-11-11; 8:45 am]

BILLING CODE P